NUCLEAR REGULATORY COMMISSION

[Docket No. 40-8838-MLA; ASLBP No. 00-776-04-MLA]

Establishment of Atomic Safety and Licensing Board

Pursuant to delegation by the Commission dated December 29, 1972, published in the Federal Register, 37 FR 28,710 (1972), and the Commission's regulations, see 10 CFR 2.104, 2.300, 2.303, 2.309, 2.311, 2.318, and 2.321, notice is hereby given that an Atomic Safety and Licensing Board is being established to preside over the following proceeding:

U.S. Army

(Jefferson Proving Ground Site)

This Licensing Board is being established pursuant to a Commission memorandum and order, CLI-05-23, 62 NRC—(Oct. 26, 2005), that (1) Affirmed a Presiding Officer's decision to reinstate this proceeding, see LBP-05-25, 62 NRC—(Sept. 12, 2005); and (2) directed that a three-member Licensing Board be appointed to conduct this reinstated proceeding, which is to be adjudicated using the revised procedural rules that became effective in February 2004, see 69 FR 2182 (Jan. 24, 2004).

The Board is comprised of the following administrative judges:

Alan S. Rosenthal, Chair, Atomic Safety and Licensing Board Panel, U.S. Nuclear Regulatory Commission, Washington, DC 20555-0001.

Dr. Paul B. Abramson, Atomic Safety and Licensing Board Panel, U.S. Nuclear Regulatory Commission, Washington, DC 20555-0001.

Dr. Richard F. Cole, Atomic Safety and Licensing Board Panel, U.S. Nuclear Regulatory Commission, Washington, DC 20555-0001.

All correspondence, documents, and other materials shall be filed with the administrative judges in accordance with 10 CFR 2.302.

Issued at Rockville, Maryland, this 1st day of November 2005.
G. Paul Bollwerk, III,
Chief Administrative Judge, Atomic Safety and Licensing Board Panel.

[FR Doc. 05-22099 Filed 11-14-05; 8:45 am]

BILLING CODE 7590-01-P